DEPARTMENT OF ENERGY

Federal Energy Regulatory Commission

[Docket No. RM07-9-000]

Notice of Inquiry on Adequacy of FERC Financial Forms; Notice of Workshop

June 6, 2007.

The staff of the Federal Energy Regulatory Commission (Commission) will hold an informal workshop in the above-referenced proceeding on July 18, 2007, at the Federal Energy Regulatory Commission, 888 First Street, NE., Washington, DC 20426 in meeting room 3M-2A&B from 9:30 a.m. until 12:30 p.m. Eastern Time.

The purpose of this staff workshop is to address the need for changes or revisions to the Commission's reporting requirements in the FERC Form 6. By addressing these issues, the Commission staff is providing an informal forum for market participants and stakeholders in the oil industry to explore ways to improve the quality and usefulness of information contained in this form. During the staff workshop, the following questions will be addressed:

How do you use the FERC Form 6?

What information from the FERC Form 6 is most helpful to you?

What additional information should be included in the FERC Form 6?

How would including additional information be helpful to you?

What changes, if any, to the FERC Form 6 do you believe are necessary?

How burdensome would any suggested changes be to filers of the FERC Form 6?

The workshop will be held in room 3M-2A&B, which accommodates about 90 people. All interested persons are invited, and there is no registration fee to attend. Seating will be on a first-come, first-served basis.

This workshop will be neither webcasted nor transcribed.

Questions about the conference should be directed to Samuel Berrios by e-mail at samuel.berrios@ferc.gov or by phone at (202) 502-6212.

Kimberly D. Bose,
Secretary.

[FR Doc. E7-11364 Filed 6-12-07; 8:45 am]

BILLING CODE 6717-01-P